DEPARTMENT OF DEFENSE

Office of the Secretary

Meeting of the Secretary of Defense's Historical Records Declassification Advisory Panel

AGENCY: Department of Defense.

ACTION: Notice of open meeting.

SUMMARY: Notice is hereby given of the forthcoming meeting of the Historical Records Declassification Advisory Panel (HRDAP). THe purpose of this meeting is to discuss and form recommendations to the Secretary of Defense on issues involving the declassification and management of DoD classified historical documents. This is the first meeting held in 2003. The OSD Historian will chair this meeting.

DATES: Friday, September 12, 2003. The meeting is scheduled from 9 a.m. to 3 p.m.

ADDRESSES: National Archives and Records Administration, Room 503, 700 Pennsylvania Avenue, Washington, DC 20408.

FOR FURTHER INFORMATION CONTACT: Ms. Chris Bromwell, Office of the Deputy Under Secretary of Defense (Counterintelligence and Security), Office of the Under Secretary of Defense (Intelligence), 5000 Defense Pentagon, Washington, DC 20302-5000, telephone (703) 697-1988.

Dated: August 11, 2003.
Patricia L. Toppings,
Alternate OSD Federal Register Liaison Officer, Department of Defense.

[FR Doc. 03-20867 Filed 8-14-03; 8:45 am]

BILLING CODE 5001-08-M